CONSUMER PRODUCT SAFETY COMMISSION

Sunshine Act Meeting

TIME AND DATE: Monday, February 14, 2000, 11:30 a.m.

LOCATION: Room 410, East West Towers, 4330 East West Highway, Bethesda, Maryland.

STATUS:

Closed to the Public.

Matter to be Considered:

Compliance Operational Matter (OS# 5756)

The Commission and staff will discuss a compliance operational matter.

For a recorded message containing the latest agenda information, call (301) 504-0709.

CONTACT PERSON FOR ADDITIONAL INFORMATION: Sadye E. Dunn, Office of the Secretary, 4330 East West Highway, Bethesda, MD 20207 (301) 504-0800.

Dated: February 7, 2000.
Sadye E. Dunn,
Secretary.

[FR Doc. 00-3151 Filed 2-7-00; 2:58 pm]

BILLING CODE 6355-01-M